ENVIRONMENTAL PROTECTION AGENCY

[FRL-7125-2]

Clean Air Scientific Advisory Committee, Subcommittee on Particle Monitoring; Notification of Public Advisory Committee Meeting

Summary—Pursuant to the Federal Advisory Committee Act, Public Law 92-463, notice is hereby given that the Clean Air Scientific Advisory Committee (CASAC) Subcommittee on Particle Monitoring will meet on Monday, January 28, 2002 from 8:30 am to 4 p.m. Eastern Time. The meeting will be held in Classroom 1 (ground floor near the visitor entrance) of the US EPA Environmental Research Center, Route 54 and T.W. Alexander Drive, Research Triangle Park, NC. The meeting is open to the public, however, due to limited space, seating will be on a first-come basis.

Background—The CASAC Subcommittee on Particle Monitoring (formerly the CASAC Technical Subcommittee for Fine Particle Monitoring) was established in 1996 to provide advice and comment to EPA (through CASAC) on appropriate methods and network strategies for monitoring fine particles in the context of implementing the revised national ambient air quality standards (NAAQS) for particulate matter.

Purpose of the Meeting—During this meeting, the Subcommittee will develop advice on implementation of EPA's continuous PM monitoring program. The discussion will be based on the draft document Continuous Monitoring Implementation Plan prepared by EPA's Office of Air Quality Planning and Standards (OAQPS). EPA will provide an overview briefing of that document to the subcommittee during the meeting to clarify areas of confusion, stimulate further discussion and receive verbal input from subcommittee members. Following the meeting, the Subcommittee will develop a report advising EPA on the implementation plan addressing: (a) program strengths; (b) areas of concern; and (c) any recommendations that might optimize implementation of the PM continuous mass program. Once completed by the Subcommittee, the report will be reviewed by the Clean Air Scientific Advisory Committee during a public teleconference to be announced in a subsequent Federal Register notice.

Availability of Review Materials—A copy of the review document, and referenced enclosures, are available from EPA on their website (see www.epa.gov/ttn/amtic/pmcont.html).

For Further Information—Members of the public wishing an Agenda or a roster of the Subcommittee should contact Ms. Rhonda Fortson, Management Assistant, Clean Air Scientific Advisory Committee, EPA Science Advisory Board (1400A), Suite 6450, U.S. EPA, 1200 Pennsylvania Avenue, NW., Washington, DC 20460; telephone/voice mail at (202) 564-4563; fax at (202) 501-0582; or via e-mail at fortson.rhonda@epa.gov. Those desiring additional information about the meeting, should contact Mr. Robert Flaak, Designated Federal Officer, Clean Air Scientific Advisory Committee, EPA Science Advisory Board (1400A), Suite 6450, U.S. EPA, 1200 Pennsylvania Avenue, NW., Washington, DC 20460; telephone/voice mail at (202) 564-4546; fax at (202) 501-0582; or via e-mail at flaak.robert@epa.gov. A copy of the draft agenda will be posted on the SAB Website (www.epa.gov/sab) (under the AGENDAS subheading) approximately 2 weeks before the meeting. The Agenda may also be obtained from Ms. Fortson at the same time.

Members of the public who wish to make a brief oral presentation must contact Mr. Flaak in writing (by letter or by fax—see previously stated information) no later than 12 noon Eastern Time, Wednesday, January 23, 2002 in order to be included on the Agenda. Public comments will be limited to ten minutes per speaker or organization, with a total time of ninety minutes overall for all speakers. Written comments must be received no later than the day prior to the meeting, preferably in electronic format (see below for details).

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting.

Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Mr. Flaak or Ms. Fortson at least five business days prior to the meeting so that appropriate arrangements can be made.

Dated: December 21, 2001.
John R. Fowle, III,
Acting Staff Director, EPA Science Advisory Board.

[FR Doc. 02-107 Filed 1-2-02; 8:45 am]

BILLING CODE 6560-50-P